FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments received are subject to public disclosure. In general, comments received will be made available without change and will not be modified to remove personal or business information including confidential, contact, or other identifying information. Comments should not include any information such as confidential information that would not be appropriate for public disclosure.

Comments regarding each of these applications must be received at the Reserve Bank indicated or the offices of the Board of Governors, Ann E. Misback, Secretary of the Board, 20th Street and Constitution Avenue NW, Washington DC 20551-0001, not later than May 14, 2024.

A. Federal Reserve Bank of Chicago (Colette A. Fried, Assistant Vice President) 230 South LaSalle Street, Chicago, Illinois 60690-1414. Comments can also be sent electronically to Comments.applications@chi.frb.org:

1. The BG 2024 Trust, Milwaukee, Wisconsin, Ben Grimstad, Decorah, Iowa, and Peter J. Wilder, Pewaukee, Wisconsin, as co-trustees, and Padrin Grimstad, Decorah, Iowa, individually, and as Grantor; the JG 2024 Trust, Milwaukee, Wisconsin, Joseph Grimstad, Decorah, Iowa, and Peter J. Wilder, as co-trustees, and Ann Grimstad, Decorah, Iowa, individually, and as Grantor; to join the Grimstad Family Control Group, a group acting in concert, to acquire voting shares of Security Agency, Incorporated, and thereby indirectly acquire voting shares of Decorah Bank and Trust Company, both of Decorah, Iowa.

B. Federal Reserve Bank of San Francisco (Joseph Cuenco, Assistant Vice President, Formations & Transactions) 101 Market Street, San Francisco, California 94105-1579. Comments can also be sent electronically to sf.fisc.comments.applications@sf.frb.org:

1. The Burge Living Trust Dated September 28, 1994, Krystal Burge and Everett Burge, both individually, and as co-trustees, Amber Kay Burge, all of Kingman, Arizona; Chad Everett Burge, Prescott, Arizona; Everett Burge Dynasty Trust, Kingman, Arizona, Krystal Burge and Everett Burge, as co-trustees; Aaron Dean Dynasty, LLC, Kingman, Arizona, Krystal Burge and Everett Burge, Managing Directors; Tiffany Oder (also known as Tiffany Rae Zee Burge), The M & K Peterson Living Trust Dated November 17, 1998 and Any Amendments Thereto, Mark T. Peterson and Kara E. Peterson, both individually, and as co-trustees, and The Kara Peterson Dynasty Trust, Mark T. Peterson and Kara E. Peterson, as co-trustees, all of Paradise Valley, Arizona; to form the Burge-Peterson Family Control Group, a group acting in concert, to acquire additional voting shares of Community Bancshares, Inc., and thereby indirectly acquire voting shares of Mission Bank, both of Kingman, Arizona.

Board of Governors of the Federal Reserve System.
Michele Taylor Fennell,
Deputy Associate Secretary of the Board.

[FR Doc. 2024-09140 Filed 4-26-24; 8:45 am]

BILLING CODE 6210-01-P